DEPARTMENT OF HEALTH AND HUMAN SERVICES

[Document Identifier OS-0990-New; 60-Day Notice]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above email address within 60-days.

Proposed Project: Health Information Technology Research Center (HITRC) User Experience Survey Evaluation and Research—0990-New-Office of the National Coordinator for Health Information Technology-ONC.

Abstract: The HITECH Act of 2009 is designed to jumpstart electronic health record (EHR) adoption and health information exchange (HIE) by establishing the Health Information Technology Extension Program, consisting of a National Health Information Technology Research Center (HITRC) and Regional Extension Centers (RECs). The goals of the HITRC are to provide assistance and support to the 62 RECs, to enable them to fulfill their mission. The goals of the RECs are to promote the national adoption and meaningful use of EHRs by health care providers.

ONC will conduct an evaluation of the usefulness and usability of the HITRC contractor-provided materials and services in supporting the RECs. This evaluation will provide critical formative feedback to the HITRC, from the REC perspective, about the quality, usefulness, and ease of use of the HITRC products, resources, and services and their ability to adequately support REC needs.

ONC is requesting approval to administer the HITRC User Experience Survey to two types of REC respondents who are customers of the HITRC program: REC frontline service staff (administered quarterly) and managers (administered annually) who draw support from the HITRC. These respondents will be asked to complete an online survey.

Estimated Annualized Burden Table
Forms | Type of respondent | Number of respondents | Number of responses per respondent | Average burden (in hours) per response | Total burden hours
HITRC User Experience Survey | REC Staff | 1,200 | 1 | 15/60 | 300
HITRC User Experience Survey | REC managers | 186 | 1 | 15/60 | 47
Total |  |  |  |  | 347

Mary Forbes
Paperwork Reduction Act Clearance Officer, Office of the Secretary.

[FR Doc. 2011-15339 Filed 6-20-11; 8:45 am]

BILLING CODE 4150-45-P